DEPARTMENT OF HOUSING AND URBAN DEVELOPMENT

[Docket No. FR-6146-N-04]

Privacy Act of 1974; System of Records; Inventory Management System, Also Known as the Public and Indian Housing Information Center

AGENCY: Office of Public and Indian Housing, HUD.

ACTION: Notice of a modified system of records.

SUMMARY: The Inventory Management System, also known as the Public and Indian Housing Information Center (IMS/PIC) serves as a national repository of information related to Public Housing Authorities (PHAs), HUD-assisted families, HUD-assisted properties, and other HUD programs for the purpose of monitoring and evaluating the effectiveness of HUD rental housing assistance programs. In accordance with the Privacy Act of 1974, the Department of Housing and Urban Development, Office of Public and Indian Housing (PIH) proposes to modify the system of records titled, Inventory Management System (IMS), also known as Public and Indian Housing Information Center (PIC), HUD/PIH.01. This system of records allows the Department of Housing and Urban Development, Office of Public and Indian Housing to collect and maintain records on individuals and organizations administering, participating in, or potentially affected by, housing assistance programs administered by HUD. This proposed modification of the IMS/PIC system would allow the system to contain additional categories of records and types of individuals. Specifically, IMS/PIC will store information about applicants for disaster recovery assistance from the Federal Emergency Management Agency (FEMA), provided pursuant to a computer matching agreement. Storing these records will enable HUD to aid individuals affected by natural disasters and prevent improper payments.

DATES: Comments are due on April 24, 2019. Unless comments are received that warrant a revision, this modification will become effective on April 24, 2019.

ADDRESSES: You may submit comments, identified by docket number and title, by one of the following methods:

Federal e-Rulemaking Portal: http://www.regulations.gov. Follow the instructions provided on that site to submit comments electronically.

Fax: 202-619-8365.

Email: privacy@hud.gov.

Mail: John Bravacos, Senior Agency Official for Privacy, Privacy Office, Department of Housing and Urban Development, Washington, DC 20410.

FOR FURTHER INFORMATION CONTACT: For general questions please contact: The Privacy Office, 451 Seventh Street SW, Room 10139, Washington, DC 20410, telephone number 202-708-3054. Individuals who are hearing- and speech-impaired may access this number via TTY by calling the Federal Relay Service at 800-877-8339 (this is a toll-free number).

SUPPLEMENTARY INFORMATION: The existing system known as the Inventory Management System/Public and Indian Housing Information Center (IMS/PIC), HUD/PIH.01, is being updated to include additional categories of records and individuals and to permit the storage of information shared by the Federal Emergency Management Agency (FEMA). This update also reorganizes the routine uses, eliminates some routine uses that are already identified in HUD's Routine Use Inventory Notice and allows disclosure to state, local, and tribal governments to ensure effective and non-duplicative delivery of disaster recovery aid.

System Name and Number:

Inventory Management System, Also Known as Public and Indian Housing Information Center (IMS/PIC), HUD/PIH.01.

Security Classification:

Unclassified.

System Location:

The files are maintained at the following locations: U.S. Department of Housing and Urban Development, 451 Seventh Street SW, Washington, DC 20410; and IMS/PIC servers are located in Charleston, WV; and are accessed through the internet. The servers are maintained by HUD Information Technology Services (HITS) contractor, and HUD's information technology partners: Perspecta. 15052 Conference Center Drive, Chantilly, VA 20151.

System Manager(s):

Office of Public and Indian Housing (PIH), Donald J. Lavoy, Deputy Assistant Secretary, Real Estate Assessment Center, 550 12th Street SW, Suite 100, Washington, DC 20410. 202-475-7949.

Authority for Maintenance of the System:

The U.S. Housing Act of 1937, as amended, 42 U.S.C. 1437; Title VI of the Civil Rights Act of 1962 (42 U.S.C. 2000d); The Fair Housing Act (42 U.S.C. 3601-3619); The Housing Community Development Act of 1981, Public Law 97-35, 85 stat., 348,408; and The Housing and Community Development Act of 1987, 42 U.S.C. 3543.

Purpose(s) of the System:

IMS/PIC serves as a national repository of information related to Public Housing Authorities (PHAs), Tribally Designated Housing Entities (TDHE), HUD-assisted families, HUD-assisted properties, and other HUD programs, for the purpose of monitoring and evaluating the effectiveness of PIH rental housing assistance programs. IMS/PIC allows PHAs, TDHEs, and their-hired management agents to electronically submit information to HUD that is related to the administration of HUD's PIH programs. It collects data for PIH operations, including data submitted via the internet from HUD's field offices, and accurately tracks activities and processes. IMS/PIC also helps to increase sharing of information throughout PIH and HUD, which improves staff awareness of activities related to the administration of HUD-subsidized housing programs. IMS/PIC is a flexible, scalable, internet-based integrated system, which enables PHA and TDHE users, and HUD personnel to access a common database via their web browser. IMS/PIC aids HUD and entities that administer HUD's assisted housing programs in: (a) Increasing the effective distribution of rental assistance to individuals that meet the requirements of federal rental assistance programs; (b) detecting abuses in assisted housing programs; (c) taking administrative or legal actions to resolve past and current abuses of assisted housing programs; (d) monitoring compliance with HUD program requirements; (e) deterring abuses by verifying the employment and income of tenants at the time of annual and interim reexaminations of family income and composition via the PIH Enterprise Income Verification (EIV) system; (f) evaluating program effectiveness; (g) improving PHA and TDHE IMS/PIC reporting rates; (h) forecasting budgets; (i) controlling funds; (j) updating tenant information; and (k) updating building and unit data.

Categories of Individuals Covered by the System:

Families residing in a HUD-assisted property and/or receiving rental housing assistance via programs administered by the Department of Housing and Urban Development; Public Housing Agencies (PHAs) and their hired management agents; Tribally Designated Housing Entities (TDHE) and their hired management agents; and individuals who have received or applied for housing-related disaster assistance from the Federal Emergency Management Agency (FEMA).

Categories of Records in the System:

Records consist of the following information as reported to HUD by PHAs, TDHEs, and their hired management agents, and other governmental agencies:

1. Agency information: Agency name, HUD-assigned code, HUD program type family participates in; project number, building number, building entrance number, and unit number (applicable to only the Public Housing program).

2. Agency point of contact information for individuals that work for, and access IMS/PIC and oversee the agency's administration (i.e., Mayors, board members, managers, directors, etc.: Individual's name, agency's physical address, agency's mailing address, agency's telephone numbers, and email addresses for point of contacts).

3. Action information: Type of action (new admission, annual reexamination, interim reexamination, portability move-in, portability move-out, end of participation, other change of unit, FSS/WTW addendum only, annual reexamination searching (Section 8 program only), issuance of voucher (Section 8 program only), expiration of voucher (Section 8 program only), flat rent annual updated (Public Housing program only), annual HQS inspection (Section 8 program only), historical adjustment, and void); effective date of action, indication of correction of previous submitted information, type of correction, date family was admitted into a PIH rental assistance program, projected effective date of next reexamination of family income and/or composition, projected date of next flat rent annual updated (applicable only to the Public Housing program), indication of whether or not the family is or has participated in the Family Self-sufficiency (FSS) program within the last year, identification of special Section 8 program (applicable only to the Section 8 program), identification of other special HUD rental program(s) the family is participating in, and “PHA Use Only” fields which are used by PHAs for general administrative purposes or other uses as prescribed by HUD.

4. Family composition (which includes the following personally identifiable information) as reported by the family and verified by PHAs, TDHEs, and their -hired management agents: Last name, first name, middle initial, date of birth, age on effective date of action, sex, relationship to head of household, citizenship status, disability status, race, ethnicity, social security number, alien registration number, compliance with community service or self-sufficiency requirement for public housing tenants, total number of household members, family subsidy status under the noncitizens rule, eligibility effective date, and former head of household's social security number.

5. Geographical and unit information:

a. Background at admission information as reported by the family: Date family entered the waiting list, zip code before admission, whether or not the family was homeless at time of admission, whether or not the family qualifies for admission over the very low-income limit, whether or not the family is continuously assisted under the 1937 Housing Act, whether or not there is a HUD-approved income targeting disregard.

b. Subsidized Unit information: Unit number and street address, city, state and zip code in which the subsidized unit is located, city, state and zip code in which the subsidized unit is located, whether or not the family's mailing address is the same address of the unit to be occupied by the family, family's mailing address (unit number and street address, city, state, and zip code) if different from the address of the subsidized unit, number of bedrooms, whether or not the unit is an accessible unit (applicable to the Public Housing program only), whether or not the family has requested accessibility features (applicable to the Public Housing program only), whether or not the family has received the requested accessibility features (applicable to the Public Housing program only), date the unit last passed Housing Quality Standards (HQS) inspection (applicable to the Section 8 program only, except Homeownership and Project-Based Vouchers programs), date of last annual HQS inspection (applicable to the Section 8 program only, except Homeownership and Project-Based Vouchers programs), year the unit was built (applicable to the Section 8 program only), and the structure type of the unit (applicable to the Section 8 program only).

6. Family assets information, as reported by the family and verified by PHAs, TDHEs, and their hired management agents, which includes the type of asset, cash value of the asset, anticipated annual income derived from the asset, passbook rate, imputed asset income, and final asset income.

7. Family income information, as reported by the family and verified by PHAs, TDHEs, and their hired management agents, which includes the income source, Income calculations, annual income derived from the income source, income exclusion amount in accordance with HUD program requirements and annual income amount after deducting allowable income exclusion for each household member of the family, total household annual income, amounts of permissible deductions and other deductions to annual income in accordance with HUD program requirements, and amount of family adjusted annual income.

8. Total tenant payment (TTP), minimum rent amount, most recent TTP amount, and tenant rent calculation information in accordance with HUD requirements for the specific PIH rental assistance program the family is currently participating in.

9. Family Self-Sufficiency (FSS) and Welfare-to-Work (WTW) program information: Type of self-sufficiency program the family is participating in, FSS report category, FSS effective date, PHA code of PHA administering FSS contract, WTW report category, WTW effective date of action, PHA code of PHA that issued the WTW voucher, PHA code of PHA counting the family as enrolled in its WTW voucher program if different than the PHA Code of PHA that issued the WTW voucher; and general information pertaining to the employment status of the head of household, date current employment began, type of employment benefits head of household receives from employer, number of years of school completed by the head of household, type of other federal assistance received by the family, number of children receiving childcare services, and optional information related to the type of family services the family needs, whether or not the need was met during participation in the FSS or WTW program, and the name of the service provider; FSS contract, account and exit information; and WTW voucher provider; FSS contract, account and exit information; and WTW voucher program information.

10. PHA and TDHE IMS/PIC system user's information: Name, telephone number, fax number, email address, mailing address, agency website address.

11. Disaster assistance information: Records from the Federal Emergency Management Agency (FEMA), shared with HUD pursuant to an approved computer matching agreement, to enable effective delivery of aid in the wake of a disaster. Includes information about applicants for FEMA assistance, including name, social security number, address, type and amount of disaster damage, type and amount of assistance provided by FEMA.

Record Source Categories:

IMS/PIC receives data from HUD staff; HUD contractors; PHAs, TDHEs, and their hired management agents; the Social Security Administration; the Department of Veteran Affairs; the Federal Emergency Management Agency; and other federal, state and local agencies. The IMS/PIC data reported by PHAs, TDHEs, and their hired management agents is electronically transmitted to IMS/PIC using agency owned software or via HUD's Family Reporting Software (FRS).

Routine Uses of Records Maintained in the System, Including Categories of Users and Purposes of Such Uses:

In addition to those disclosures generally permitted under 5 U.S.C. 552a(b) of the Privacy Act, all or a portion of the records or information contained in this system may be disclosed outside HUD as a routine use pursuant to 5 U.S.C. 552a(b)(3) as follows:

1. To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

2. To the HUD Geocoding Service Center (GSC) to obtain geographic information for records in the system.

3. To individuals under contract to HUD or under contract to another agency with funds provided by HUD: For the preparation of studies and statistical reports directly related to the management of HUD's rental assistance programs, to support quality control for tenant eligibility efforts requiring a random sampling of tenant files to determine the extent of administrative errors in making rent calculations, eligibility determinations, etc., and for processing reexaminations (individuals provided information under this routine use are subject to Privacy Act requirements and limitation on disclosures as are applicable to HUD officials and employees).

4. To PHAs, TDHEs, and their hired management agents, and auditors of HUD rental housing assistance programs: To verify the accuracy and completeness of tenant data used in determining eligibility and continued eligibility and the amount of housing assistance received;

5. To PHAs, TDHEs, and their hired management agents of HUD rental housing assistance programs: To identify and resolve discrepancies in tenant data.

6. To researchers affiliated with academic institutions, with not-for-profit organizations, or with federal, state or local governments, or to policy researchers: Without personally identifiable information: For the performance of research and statistical activities on housing and community development issues (individuals provided information under this routine use are subject to Privacy Act requirements and limitation on disclosures as are applicable to HUD officials and employees);

7. To HUD contractors, independent public auditors and accountants, PHAs, and TDHEs: For the purpose of conducting oversight and monitoring of program operations to determine compliance with applicable laws and regulations, and financial reporting requirements (individuals provided information under this routine use are subject to Privacy Act requirements and limitation on disclosures as are applicable to HUD officials and employees);

8. To the U.S. Department of Veterans Affairs (VA) for statistical analysis to advance the goals of the nation's federal strategic plan to prevent and end homelessness through the collection, analysis, and reporting of quality and timely data on veterans homelessness to assist VA with the establishment and/or verification of the following: Reducing homelessness among our nation's veterans; identify and understand the needs of homeless veterans and to develop programs and services to address those needs; effective administration of the HUD Veterans Affairs Supportive Housing (VASH) program by HUD and VA business partners; HUD-VASH program monitoring and evaluation; and the production of aggregate statistical data without any personal identifiers, which will not be used to make decisions concerning the rights, benefits, or privileges of specific individuals, or providers of services with respect to assistance provided under the HUD-VASH program;

9. To the U.S. Department of Veterans Affairs (VA), under an approved computer matching agreement, or data sharing agreement pursuant to a Presidential Executive Order (E.O.) mandate and in accordance with the Federal Privacy Act and Computer Matching and Privacy Protection Act: To identify and recover overpayments (improper payments) of rental assistance, determine compliance with program requirements by program administrators and participants of HUD rental housing assistance programs, deter future abuses in rental housing assistance programs, reduce administrative costs associated with manual program evaluation and monitoring efforts, and ensure that only eligible participants receive rental assistance in the correct amount;

10. To the Federal Emergency Management Agency (FEMA), under an approved computer matching agreement, or data sharing agreement pursuant to a Presidential E.O. mandate in accordance with the Federal Privacy Act and Computer Matching and Privacy Protection Act: To identify existing families which participate in a HUD rental assistance program and are currently receiving housing assistance;

11. To state, local and tribal governments receiving HUD disaster recovery grants, and to PHAs: To ensure effective delivery of disaster recovery aid, to prevent duplication of benefits between HUD and other federal agencies, and to address unmet needs of disaster victims.

12. To appropriate agencies, entities, and persons when (1) HUD suspects or has confirmed that there has been a breach of the system of records; (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

13. To another Federal agency or Federal entity, when HUD determines that information from this system of records is reasonably necessary to assist the recipient agency or entity in (1) responding to a suspected or confirmed breach or (2) preventing, minimizing, or remedying the risk of harm to individuals, the recipient agency or entity (including its information systems, programs, and operations), the Federal Government, or national security, resultingfrom a suspected or confirmed breach.

Policies and Practices for Storage of Records:

Records are stored manually and electronically in PHA office automation equipment and paper files, respectively. Records are stored on HUD computer servers for HUD and PHA staff to access via the internet. HUD's information technology partners in the Office of the Chief Information Officer maintain the disks and backups files of IMS/PIC data. The servers are maintained by HUD Information Technology Services (HITS) contractor, and HUD's information technology partners: Perspecta. 15052 Conference Center Drive, Chantilly, VA 20151.

Policies and Practices for Storage of Records:

Records are stored manually and electronically in PHA office automation equipment and paper files, respectively. Records are stored on HUD computer servers for HUD and PHA staff to access via the internet. HUD's information technology partners in the Office of the Chief Information Officer maintain the disks and backups files of IMS/PIC data.

Policies and Practices for Retrieval of Records:

Tenant records may be retrieved by computer search of indices by the Head of Household's or household member's name, date of birth, and/or SSN of an existing or form HUD program participant. PHA records may be retrieved by PHA Code, User ID, and/or IMS/PIC user's last name. Note: A user's search capability is limited to only those program participants within the user's jurisdiction and assigned to his or her User ID.

Policies and Practices for Retention and Disposal of Records:

Electronic records are maintained and destroyed in accordance with requirements of the HUD Records Disposition Schedule, 2225-6. In accordance with 24 CFR 908.101 and HUD record retention requirements at 24 CFR 85.42, PHAs are required to retain at least three years' worth of IMS/PIC data either electronically or in paper form.

Administrative, Technical, and Physical Safeguards:

Records are maintained at the U.S. Department of Housing and Urban Development in Washington, DC with limited access to those persons whose official duties require the use of such records. Computer files and printed listings are maintained in locked cabinets. User's access, updates access, read-only access, and approval access based on the user's role and security access level.

Record Access Procedures:

For information, assistance, or inquiry about records, contact John Bravacos, Chief Privacy Officer, 451 Seventh Street SW, Room 10139, Washington, DC 20410, telephone number (202) 402-6064. When seeking records about yourself from this system of records or any other Housing and Urban Development (HUD) system of records, your request must conform with the Privacy Act regulations set forth in 24 CFR part 16. You must first verify your identity, meaning that you must provide your full name, address, and date and place of birth. You must sign your request, and your signature must either be notarized or submitted under 28 U.S.C. 1746, a law that permits statements to be made under penalty of perjury as a substitute for notarization.

If your request is seeking records pertaing to another living individual, you must include a statement from that individual certifying their agreement for you to access their records. Without the above information, the HUD FOIA Office may not conduct an effective search, and your request may be denied due to lack of specificity or lack of compliance with regulations.

Contesting Record Procedures:

Since tenant information reported in IMS/PIC is submitted to HUD by PHAs and TDHEs based on information collected directly from the individual, tenants must contact the PHA or TDHE to request correction of any tenant supplied information reported incorrectly by the agency. HUD does not have the ability to modify agency reported data within IMS/PIC. With respect to any HUD determination based on IMS/PIC data, the procedures for appealing HUD's initial determination records are outlined in 24 CFR part 16, Additional assistance may be obtained by contacting John Bravacos, Chief Privacy Officer, 451 Seventh Street SW, Room 10139, Washington, DC 20410, or the HUD Departmental Privacy Appeals Officers, Office of General Counsel, Department of Housing and Urban Development, 451 Seventh Street SW, Washington DC 20410.

Notification Procedures:

Individuals seeking notification of and access to any record contained in this system of records, or seeking to contest its content, may submit a request in writing to the Privacy Office at the address provided above or to the component's FOIA Officer, whose contact information can be found at http://www.hud.gov/foia under “contact.” If an individual believes more than one component maintains Privacy Act records concerning him or her, the individual may submit the request to the Senior Agency Official for Privacy, HUD, 451 Seventh Street, SW, Room 10139, Washington, DC 20410.

Exemptions Promulgated for the System:

None.

History:

The most recent prior IMS/PIC SORN was published in the Federal Register on April 13, 2012 at 77 FR 22337-22340.

Dated: March 18, 2019.
John Bravacos,
Senior Agency Official for Privacy.

[FR Doc. 2019-05676 Filed 3-22-19; 8:45 am]

BILLING CODE 4210-67-P